DEPARTMENT OF COMMERCE

National Oceanic and Atmospheric Administration

RIN 0648-XN14

Marine Mammals; File Nos. 14210 and 782-1719

AGENCY: National Marine Fisheries Service (NMFS), National Oceanic and Atmospheric Administration (NOAA), Commerce.

ACTION: Notice; receipt of application and an application for amendment.

SUMMARY: Notice is hereby given that LGL Alaska Research Associates (Dr. Tamara McGuire, Principal Investigator), 1101 E. 76th Ave, Suite B, Anchorage, Alaska 99518 (File No. 14210), and the National Marine Mammal Laboratory (NMML), Alaska Fisheries Science Center (Dr. John L. Bengtson, Principal Investigator), 7600 Sand Point Way, NE., Seattle, Washington 98115-6349 (File No. 782-1719) have applied in due form for a permit and a permit amendment, respectively, to conduct research on the Cook Inlet stock of beluga whales (Delphinapterus leucas).

DATES: Written, telefaxed, or e-mail comments must be received on or before March 12, 2009.

ADDRESSES: The applications and related documents are available for review by selecting “Records Open for Public Comment” from the Features box on the Applications and Permits for Protected Species (APPS) home page, https://apps.nmfs.noaa.gov/index.cfm, and then selecting File No. 14210 or 782-1719 from the list of available applications.

These documents are also available upon written request or by appointment in the following offices:

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File Nos. 14210 and 782-1719.

FOR FURTHER INFORMATION CONTACT: Kristy Beard or Amy Hapeman, (301)713-2289.

SUPPLEMENTARY INFORMATION: The subject permit and permit amendment are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

LGL Alaska Research Associates requests a 5-year permit to approach beluga whales in Cook Inlet, Alaska for photo-identification. The purpose of the research is to identify individual whales and to provide information about movement patterns, habitat use, survivorship, reproduction, and population size. The applicant requests to harass up to 54 belugas, up to 3 times each, between May and October each year.

NMML requests an amendment to Permit No. 782-1719-07 to conduct aerial monitoring of beluga whales in Cook Inlet, Alaska, year-round. The objective is to survey the entire population at least once annually. Up to 585 belugas would be harassed annually during 20 aerial surveys flown at 800 feet. The purposes of the surveys are to (1) provide distribution information during June and July; (2) compare distribution changes over time; (3) provide group size estimates for calculations of stock size; (4) estimate fractions of calves and juveniles in the population; and (5) calibrate and improve survey methodology. The amendment would be valid until the permit expires.

Concurrent with the publication of this notice in the Federal Register, NMFS is forwarding copies of these applications to the Marine Mammal Commission and its Committee of Scientific Advisors.

Dated: February 5, 2009.
P. Michael Payne,
Chief, Permits, Conservation and Education Division, Office of Protected Resources, National Marine Fisheries Service.

[FR Doc. E9-2799 Filed 2-9-09; 8:45 am]

BILLING CODE 3510-22-S